DEPARTMENT OF THE INTERIOR

Bureau of Land Management

[LLES956000-L19100000-BK0000-LRCSM1101300]

Eastern States: Filing of Plat of Survey

AGENCY: Bureau of Land Management, Interior.

ACTION: Notice of Filing of Plat of Survey; Louisiana.

SUMMARY: The Bureau of Land Management (BLM) will file the plat of survey of the lands described below in the BLM—Eastern States office in Springfield, Virginia, 30 calendar days from the date of publication in the Federal Register.

FOR FURTHER INFORMATION CONTACT: Bureau of Land Management—Eastern States, 7450 Boston Boulevard, Springfield, Virginia 22153. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was requested by the Bureau of Indian Affairs.

The lands surveyed are:

Saint Helena Meridian, Louisiana

T. 12 S., R 11 E.

The plat of survey represents the survey of two parcels of land referenced as the New Basin Canal Lighthouse and the United States Coast Guard Station located on Lake Pontchartrain, of the Saint Helena Meridian, in the State of Louisiana, and was accepted August 25, 2011.

We will place a copy of the plat we described in the open files. It will be available to the public as a matter of information.

If BLM receives a protest against the survey, as shown on the plat, prior to the date of the official filing, we will stay the filing pending our consideration of the protest.

We will not officially file the plat until the day after we have accepted or dismissed all protests and they have become final, including decisions on appeals.

Dated: September 1, 2011.
Dominica Van Koten,
Chief Cadastral Surveyor.

[FR Doc. 2011-22940 Filed 9-7-11; 8:45 am]

BILLING CODE 4310-GJ-P